DEPARTMENT OF EDUCATION

National Assessment Governing Board; Meeting

AGENCY: Department of Education, National Assessment Governing Board.

ACTION: Cancellation of public hearing.

SUMMARY: The National Assessment Governing Board published a document in the Federal Register of January 15, 2010, FR DOCID: fr15ja10-47, Volume 75, Number 10 [pages 2529-2530] announcing a public hearing on January 28, 2010 to obtain comment on the draft Technological Literacy Assessment Framework for the National Assessment of Educational Progress. The public hearing is hereby cancelled.

Written testimony may be sent by mail, fax or e-mail for receipt at the following address, no later than January 28, 2010.

National Assessment Governing Board, 800 North Capitol Street, NW.—Suite 825, Washington, DC 20002. Attention: Tessa Regis. FAX: (202) 357-6945. E-mail: tessa.regis@ed.gov.

FOR FURTHER INFORMATION CONTACT: Munira Mwalimu at (202) 357-6906.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 25, 2010.
Munira Mwalimu,
Operations Officer, U. S. Department of Education, National Assessment Governing Board.

[FR Doc. 2010-1798 Filed 1-28-10; 8:45 am]

BILLING CODE 4000-01-P